DEPARTMENT OF THE INTERIOR

U.S. Geological Survey

National Earthquake Prediction Evaluation Council

AGENCY: U.S. Geological Survey, Interior.

ACTION: Notice of meeting.

SUMMARY: Pursuant to Public Law 96-472, the National Earthquake Prediction Evaluation Council (NEPEC) will hold a meeting. The meeting location is the U.S. Geological Survey, Building 3, Conference Room C, 345 Middlefield Rd., Menlo Park, CA 94025. The Committee is comprised of members from academia and the Federal government. The Committee shall advise the Director of the U.S. Geological Survey (USGS) on proposed earthquake predictions, on the completeness and scientific validity of the available data related to earthquake predictions, and on related matters as assigned by the Director.

The Committee, which was recently reconstituted following a period of dormancy, will review past findings rendered by the NEPEC and by the California Earthquake Prediction Evaluation Council. They will also discuss recent trends in earthquake research that bear on the predictability of earthquake occurrence.

Meetings of the National Earthquake Prediction Evaluation Council are open to the public.

DATES: May 4, 2006, commencing at 1 p.m. and adjourning at 4 p.m. on May 5, 2006.

Contact: Dr. Michael Blanpied, U.S. Geological Survey, MS 905, 12201 Sunrise Valley Drive, Reston, Virginia 20192, (703) 648-6696, mblanpied@usgs.gov.

Dated: April 17, 2006.
Peter T. Lyttle,
Acting Associate Director for Geology.

[FR Doc. 06-3870 Filed 4-24-06; 8:45 am]

BILLING CODE 4311-AM-M